Title 3—

The President

Memorandum of March 31, 2020

Delegation of Certain Functions and Authorities Under the National Defense Authorization Act for Fiscal Year 2020

Memorandum for the Secretary of State[,] the Secretary of the Treasury[,] the Secretary of Defense[, and] the Director of National Drug Control Policy

By the authority vested in me as President by the Constitution and the laws of the United States of America, including section 301 of title 3, United States Code, I hereby order as follows:

Section 1. (a) I hereby delegate to the Secretary of State the functions and authorities vested in the President by section 7426 of the National Defense Authorization Act for Fiscal Year 2020 (Public Law 116-92) (the “Act”).

(b) I hereby delegate to the Secretary of State, in consultation with the Secretary of the Treasury, the functions and authorities vested in the President by the following provisions of the Act:

(i) section 7214;

(ii) section 7413;

(iii) section 7431; and

(iv) section 7432.

(c) I hereby delegate to the Secretary of State, in consultation with the Secretary of the Treasury and the Director of National Drug Control Policy, the functions and authorities vested in the President by section 7211(a)(1)(C) of the Act.

(d) I hereby delegate to the Secretary of the Treasury, in consultation with the Secretary of State, the functions and authorities vested in the President by the following provisions of the Act:

(i) section 7211(a)(1)(A)-(B);

(ii) section 7211(a)(2)-(3);

(iii) section 7211(b);

(iv) section 7211(c);

(v) section 7212;

(vi) section 7213(a)(4)-(9);

(vii) section 7213(d);

(viii) section 7215(a);

(ix) section 7233;

(x) section 7412(a); and

(xi) section 7412(b)(1)(A).

(e) I hereby delegate to the Secretary of the Treasury the functions and authorities vested in the President by section 7433 of the Act.

(f) I hereby delegate to the Secretary of State and the Secretary of Defense the functions and authorities vested in the President by section 7423 of the Act.

Sec. 2. The delegations in this memorandum shall apply to any provisions of any future public laws that are the same or substantially the same as those provisions referenced in this memorandum.

Sec. 3. The Secretary of State is authorized and directed to publish this memorandum in the Federal Register.

THE WHITE HOUSE,

Washington, March 31, 2020

[FR Doc. 2020-08643

Filed 4-21-20; 8:45 am]

Billing code 4710-10-P